DEPARTMENT OF COMMERCE

National Oceanic and Atmospheric Administration

[RTID 0648-XC552]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its 146th Scientific and Statistical Committee (SSC), Hawaii Archipelago & Pacific Remote Island Areas (PRIA) Standing Committee, Executive and Budget Standing Committee, and 193rd Council meetings to take actions on fishery management issues in the Western Pacific Region.

DATES: The meetings will be held between November 29 and December 8, 2022. For specific times and agendas, see SUPPLEMENTARY INFORMATION.

ADDRESSES: The SSC meeting will be held by web conference via Webex. The Standing Committee meetings will be held in a hybrid format with in-person and remote participation (Webex) options available for the members, and public attendance limited to web conference via Webex. In-person attendance for Standing Committee members will be hosted at the Council office, 1164 Bishop Street, Suite 1400, Honolulu, HI 96813.

The 193rd Council Meeting will be held as a hybrid meeting for Council members and public. The in-person portion of the Council Meeting will be held at the Pagoda Hotel, 1525 Rycroft St., Honolulu, HI 96814. Remote participation option will be available via Webex.

Specific information on joining the meeting, connecting to the web conference and providing oral public comments will be posted on the Council website at www.wpcouncil.org. For assistance with the web conference connection, contact the Council office at (808) 522-8220.

Council address: Western Pacific Fishery Management Council, 1164 Bishop Street, Suite 1400, Honolulu, HI 96813.

FOR FURTHER INFORMATION CONTACT: Kitty M. Simonds, Executive Director, Western Pacific Fishery Management Council; phone: (808) 522-8220.

SUPPLEMENTARY INFORMATION: All times shown are in Hawaii Standard Time. The 146th SSC meeting will be held between 11 a.m. and 5 p.m. on November 29-30, 2022. The Hawaii Archipelago & PRIA Standing Committee will be held between 8 a.m. and 9:30 a.m. on December 5, 2022. The Executive and Budget Standing Committee meeting will be held between 10 a.m. and 11:30 a.m. on December 5, 2022. The portion of the Executive and Budget Standing Committee from 11 a.m. to 11:30 a.m. will be closed to the public for a briefing on litigation in accordance with section 302(i)(3) of the Magnuson-Stevens Fishery Conservation and Management Act (MSA). The 193rd Council meeting will be held between 1:30 p.m. to 5 p.m. on December 5, 2022, 9 a.m. and 5 p.m. on December 6-7, 2022, and 9 a.m. and 12 p.m. on December 8, 2022.

Please note that the evolving public health situation regarding COVID-19 may affect the conduct of the December Council and its associated meetings. At the time this notice was submitted for publication, the Council anticipated convening the Standing Committee meetings as a hybrid format for members and by web conference for public attendance, and the Council meeting as an in-person meeting with a web conference attendance option. If public participation options will be modified, the Council will post notice on its website at www.wpcouncil.org by, to the extent practicable, 5 calendar days before each meeting.

Agenda items noted as “Final Action” refer to actions that may result in Council transmittal of a proposed fishery management plan, proposed plan amendment, or proposed regulations to the U.S. Secretary of Commerce, under Sections 304 or 305 of the MSA. In addition to the agenda items listed here, the Council and its advisory bodies will hear recommendations from Council advisors. An opportunity to submit public comment will be provided throughout the agendas. The order in which agenda items are addressed may change and will be announced in advance at the Council meeting. The meetings will run as late as necessary to complete scheduled business.

Background documents for the 193rd Council meeting will be available at www.wpcouncil.org. Written public comments on final action items at the 193rd Council meeting should be received at the Council office by 5 p.m. HST, December 2, 2022, and should be sent to Kitty M. Simonds, Executive Director; Western Pacific Fishery Management Council, 1164 Bishop Street, Suite 1400, Honolulu, HI 96813, phone: (808) 522-8220 or fax: (808) 522-8226; or email: info@wpcouncil.org. Written public comments on all other agenda items may be submitted for the record by email throughout the duration of the meeting. Instructions for providing oral public comments during the meeting will be posted on the Council website. This meeting will be recorded (audio only) for the purposes of generating the minutes of the meeting.

Agenda for the 146th SSC Meeting

Tuesday, November 29, 2022, 11 a.m. to 5 p.m.

1. Introductions

2. Approval of Draft Agenda and Assignment of Rapporteurs

3. Status of the 145th SSC Meeting Recommendations

4. Pacific Islands Fisheries Science Center Director Report

5. Program Planning and Research

A. Alternatives for Fishing Regulations for the Monument Expansion (MEA) in the Northwestern Hawaiian Islands (NWHI)

B. Report of the Ecosystem-based Fisheries Management Workshop

C. Filling Gaps in Data for Priority Coral Reef Species-Nenue Biosampling in Hawaii

D. Review of Paper Inferring Spillover Benefits of the Papahanaumokuakea Marine National Monument

E. CCC Area-Based Management Subcommittee Report

F. National Standard 1 (NS1) Subgroup on Biomass Proxies Draft Report

G. American Samoa Bottomfish Management Unit Species (BMUS) Stock Assessment Western Pacific Stock Assessment Review (WPSAR) Terms of Reference

H. Public Comment

I. SSC Discussion and Recommendations

6. Protected Species

A. False Killer Whale Take Reduction Team Meeting Report

B. Cross-taxa Impacts of Longline Management Measures

C. Endangered Species Act (ESA) Section 7 Consultations

1. Final Supplemental Biological Opinions for the Hawaii Deep-set and American Samoa Longline Fishery Draft Biological Opinions

2. Status of the Full Hawaii Deep-set and American Samoa Longline Fishery Draft Biological Opinions

D. Public Comment

E. SSC Discussion and Recommendations

Wednesday, November 30, 2022, 11 a.m. to 5 p.m.

7. Other Business

A. March 2023 SSC Meetings Dates

8. Summary of SSC Recommendations to the Council

Agenda for the Hawaii Archipelago & PRIA Standing Committee

Monday, December 5, 2022, 8 a.m. and 9:30 a.m.

1. Fisheries Management Measures in the NWHI MEA

a. Report of public meetings

b. Alternatives for Monument Expansion Fishing Regulations

2. North Pacific Striped Marlin Catch Limits

3. Advisory Group Reports and Recommendations

4. Other Business

5. Public Comment

6. Discussion and Recommendations

Agenda for the Executive and Budget Standing Committee

Monday, December 5, 2022, 10 a.m. and 11:30 a.m. (11 a.m. to 11:30 a.m. CLOSED)

1. Financial Reports

2. Administrative Reports

3. Council Program Plan Report

4. October 2022 Council Coordination Committee Meeting Report

5. Council Family Changes

6. Meetings and Workshops

7. Other Issues

8. Public Comment

9. Discussion and Recommendations

10. Briefing on Litigation (Closed Session—pursuant to MSA section 302(i)(3))

Agenda for the 193rd Council Meeting

Monday, December 5, 2022, 1:30 p.m. to 5 p.m.

1. Welcome and Introductions

2. Approval of the 193rd Council Meeting Agenda

3. Approval of the 192nd Council Meeting Minutes

4. Executive Director's Report

5. Agency Reports

A. National Marine Fisheries Service

1. Pacific Islands Regional Office

2. Pacific Islands Fisheries Science Center

B. NOAA Office of General Counsel Pacific Islands Section

C. Enforcement

1. U.S. Coast Guard

2. NOAA Office of Law Enforcement

3. NOAA Office of General Counsel Enforcement Section

D. U.S. State Department

E. U.S. Fish and Wildlife Service

F. Public Comment

G. Council Discussion and Action

Tuesday, December 6, 2022, 9 a.m. to 5 p.m.

6. Hawaii Archipelago & PRIA

A. Moku Pepa

B. Department of Land and Natural Resources/Division of Aquatic Resources Report (Legislation, Enforcement)

C. Office of Hawaiian Affairs Ocean Policy

D. Review of Paper Inferring Spillover Benefits of the Papahanaumokuakea Marine National Monument

E. NWHI MEA Fishing Regulations

1. Report of Public Meetings

2. Alternatives for Fishing Regulations for the MEA in the NWHI (Final Action)

F. Advisory Group Report and Recommendations

1. Advisory Panel

2. Scientific & Statistical Committee

3. Hawaii Archipelago & PRIA Standing Committee

G. Public Comment

H. Council Discussion and Action

7. Mariana Archipelago

A. Guam

1. Department of Agriculture/Division of Aquatic and Wildlife Resources Report

2. Isla Informe

B. Commonwealth of the Northern Mariana Islands

1. Arongol Falú

2. Department of Land and Natural Resources/Division of Fish and Wildlife Report

C. Advisory Group Report and Recommendations

1. Scientific & Statistical Committee

D. Public Comment

E. Council Discussion and Action

8. Program Planning and Research

A. National Legislative Report

B. Alternatives for an Aquaculture Management Framework in the Western Pacific (Final Action)

C. Report of the Regional Ecosystem-Based Fishery Management Workshop

D. Report of the Council Coordination Committee Area-based Management Subcommittee

E. Territory BMUS Revision Working Group Reports

F. Regional Communications & Outreach Report

G. Advisory Group Report and Recommendations

1. Scientific & Statistical Committee

H. Public Comment

I. Council Discussion and Action

Tuesday, December 6, 2022, 4:30 p.m. to 5 p.m.

Public Comment on Non-Agenda Items

Wednesday, December 7, 2022, 9 a.m. to 5 p.m.

9. Protected Species

A. Review of Cross-taxa Impacts of Longline Management Measures

B. False Killer Whale Take Reduction Team Meeting Report

C. ESA Section 7 Consultations

1. Final Supplemental Biological Opinions for the Hawaii Deep-set and American Samoa Longline Fishery Draft Biological Opinions

2. Status of the Full Hawaii Deep-set and American Samoa Longline Fishery Draft Biological Opinions

D. ESA and Marine Mammal Protection Act Updates

E. Advisory Group Report and Recommendations

1. Advisory Panel

2. Scientific & Statistical Committee

F. Public Comment

G. Council Discussion and Action

10. Pelagic & International Fisheries

A. North Pacific Striped Marlin Catch Limits (Final Action)

B. Electronic Monitoring: Best Practices for Implementation and Options for the Western Pacific Region

C. International Fisheries Issues

1. Western and Central Pacific Ocean Longline Management Workshop

2. Outcomes of 19th Regular Session of the Western and Central Pacific Fisheries Commission

D. Advisory Group Report and Recommendations

1. Advisory Panel

2. Scientific & Statistical Committee

3. Hawai`i Archipelago & PRIA Standing Committee

E. Public Comment

F. Council Discussion and Action

Thursday, December 8, 2022, 9 a.m. to 12 p.m.

11. American Samoa Archipelago

A. Motu Lipoti

B. Department of Marine and Wildlife Resources Report

C. WPSAR Terms of Reference for American Samoa Bottomfish Stock Assessment

D. Advisory Group Report and Recommendations

1. Scientific & Statistical Committee

E. Public Comment

F. Council Discussion and Action

12. Administrative Matters

A. Financial Reports

B. Administrative Reports

C. Ethics Training

D. Council Program Planning Report

E. October 2022 Council Coordination Committee Meeting Report

F. Council Family Changes

G. Meetings and Workshops

H. Standing Committee Reports

1. Executive and Budget Standing Committee

I. Public Comment

J. Council Discussion and Action

13. Other Business

A. Election of Officers

Non-emergency issues not contained in this agenda may come before the Council for discussion and formal Council action during its 193rd meeting. However, Council action on regulatory issues will be restricted to those issues specifically listed in this document and any regulatory issue arising after publication of this document that requires emergency action under section 305(c) of the MSA, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: November 8, 2022.
Rey Israel Marquez,
Acting Deputy Director, Office of Sustainable Fisheries, National Marine Fisheries Service.

[FR Doc. 2022-24725 Filed 11-10-22; 8:45 am]

BILLING CODE 3510-22-P